DEPARTMENT OF COMMERCE

National Oceanic and Atmospheric Administration

RIN 0648-XV47

Gulf of Mexico Fishery Management Council (Council); Public Meetings

AGENCY: National Marine Fisheries Service (NMFS), National Oceanic and Atmospheric Administration (NOAA), Commerce.

ACTION: Notice of public meetings.

SUMMARY: The Gulf of Mexico Fishery Management Council will convene public meetings.

DATES: The meetings will be held April 12 - 15, 2010.

ADDRESSES: The meetings will be held at the Galveston Island Convention Center, 5400 Seawall Blvd., Galveston, TX 77551.

Council address: Gulf of Mexico Fishery Management Council, 2203 North Lois Avenue, Suite 1100, Tampa, FL, 33607.

FOR FURTHER INFORMATION CONTACT: Dr. Stephen Bortone, Executive Director, Gulf of Mexico Fishery Management Council; telephone: 813-348-1630.

SUPPLEMENTARY INFORMATION:

Council

Wednesday, April 14, 2010 - The Council meeting will begin at 10 a.m. with a review of the agenda and approval of the minutes. From 10:15 am - 12 noon and again at 1:30 pm 2:30 pm they will receive public testimony on exempted fishing permits (EFPs), if any final; Framework Action for Greater Amberjack and the Council will hold an open public comment period regarding any fishery issue of concern. People wishing to speak before the Council should complete a public comment card prior to the comment period. From 2:30 p.m. - 2:45 p.m. the Council will discuss Fisheries 101. From 2:45 pm - 5:30 pm the Council will review and discuss reports from the committee meetings as follows: Budget; Administrative Policy; Joint Budget/Administrative Policy; Data Collection; and Coastal Migratory Pelagics (Mackerel) Management; Sustainable Fisheries/Ecosystem.

Thursday, April 15, 2010 - From 8:30 a.m. - 10:30 a.m. the Council will continue to review and discuss reports from the committee meetings as follows: Reef Fish Management; Shrimp Management; Red Drum; SEDAR; and AP Selection Committee. Other Business items will follow from 11:30 a.m. - 12 noon. The Council will conclude its meeting at approximately 12 noon.

Committees

Monday, April 12, 2010

8:30 am - 9 a.m. - CLOSED SESSION - Full Council - The AP Selection Committee will review fishery violations.

9 a.m. - 9:30 am - The Budget Committee will review the 2010 budget.

9:30 a.m. - 11:30 a.m. - The Administrative Policy Committee will discuss modifications to Statement of Organization Practice and Procedures and Handbook Development and review the Travel Handbook.

11:30 a.m. - 12 noon - The Joint Administrative Policy/Budget Committee will meet to discuss administrative and budgetary issues.

1:30 p.m. - 5:30 p.m. - The Reef Fish Management Committee will discuss SEDAR 19 Black Grouper Stock Assessment; receive a report from the Standing and Special Reef Fish Scientific and Statistical Committee; discuss Options Paper for Amendment 32 Gag/Red Grouper; Framework Action for Greater Amberjack; and receive a report from the Reef Fish Limited Access Privilege Program Advisory Panel Report

Recess

Tuesday, April 13, 2010

8:30 a.m. - 11:30 a.m. - The Reef Fish Management Committee will continue to meet.

1 p.m. - 2 p.m. - The Data Collection Committee will receive a report from the Ad Hoc Data Collection Advisory Panel Meeting.

2 p.m. - 4 p.m. - The Sustainable Fisheries/Ecosystem Committee will receive a report from the Uncertainty workshop; the Scientific and Statistical Committee Acceptable Biological Catch Control Rule Report; discuss the Options Paper for the Generic Annual Catch Limit/Accountability Measures Amendment; and Ecosystem Scientific and Statistical Committee Progress Report.

4 p.m. - 4:30 p.m. - The Coastal Migratory Pelagics (Mackerel) Management Committee will discuss the revised Options Paper Amendment 18 for Coastal Migratory Pelagics; South Atlantic Council Action s on Options Paper for Amendment 18 for Coastal Migratory Pelagics (Mackerel).

4:30 p.m. - 5 p.m. - The SEDAR Selection Committee will discuss changes to the SEDAR Procedure.

Recess

Immediately Following Committee Recess - There will be an informal open public question and answer session on Gulf of Mexico Fishery Management Issues.

Wednesday, April 14, 2010

8:30 a.m. - 9 a.m. - The Shrimp Management Committee will discuss the report on 2009 Shrimp Fishing Effort.

9 a.m. - 10 a.m. The Red Drum Committee will receive a status report on State Escapement Data; and an update on the SEFSC Methodology for Age Composition for Red Drum.

Although other non-emergency issues not on the agendas may come before the Council and Committees for discussion, in accordance with the M-SFCMA, those issues may not be the subject of formal action during these meetings. Actions of the Council and Committees will be restricted to those issues specifically identified in the agendas and any issues arising after publication of this notice that require emergency action under Section 305(c) of the M-SFCMA, provided the public has been notified of the Council's intent to take action to address the emergency. The established times for addressing items on the agenda may be adjusted as necessary to accommodate the timely completion of discussion relevant to the agenda items. In order to further allow for such adjustments and completion of all items on the agenda, the meeting may be extended from, or completed prior to the date/time established in this notice.

Special Accommodations

These meetings are physically accessible to people with disabilities. Requests for sign language interpretation or other auxiliary aids should be directed to Tina O'Hern at the Council (see ADDRESSES) at least 5 working days prior to the meeting.

Dated: March 22, 2010.
William D. Chappell,
Acting Director, Office of Sustainable Fisheries, National Marine Fisheries Service.

[FR Doc. 2010-6648 Filed 3-24-10; 8:45 am]

BILLING CODE 3510-22-S